DEPARTMENT OF TRANSPORTATION

Federal Aviation Administration

14 CFR Part 39

[Docket No. FAA-2004-19897; Directorate Identifier 2004-CE-45-AD]

RIN 2120-AA64

Airworthiness Directives; Eagle Aircraft (Malaysia) Sdn. Bhd. Model Eagle 150B Airplanes

AGENCY: Federal Aviation Administration (FAA), DOT.

ACTION: Notice of proposed rulemaking (NPRM).

SUMMARY: The FAA proposes to adopt a new airworthiness directive (AD) for certain Eagle Aircraft (Malaysia) Sdn. Bhd. Model Eagle 150B airplanes. This proposed AD would require you to modify or replace the co-pilot rudder pedal assembly. This proposed AD results from mandatory continuing airworthiness information (MCAI) issued by the airworthiness authority for Malaysia. We are issuing this proposed AD to prevent binding of the co-pilot rudder pedal assembly due to premature wear of the bushing, which could result in loss of co-pilot rudder and brake control. This failure could result in loss of control of the airplane.

DATES: We must receive any comments on this proposed AD by February 11, 2005.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

To get the service information identified in this proposed AD, contact Eagle Aircraft (Malaysia) Sdn. Bhd., P.O. Box 1028, Pejabat Pos Besar, Melanka, Malaysia, 75150; telephone: 011 (606) 317-4105; facsimile: 011 (606) 317-7213.

To view the comments to this proposed AD, go to http://dms.dot.gov. This is docket number FAA-2004-19897.

FOR FURTHER INFORMATION CONTACT: Karl Schletzbaum, Aerospace Engineer, Small Airplane Directorate, ACE-112, 901 Locust, Rm 301, Kansas City, Missouri 64106; telephone: (816) 329-4146; facsimile: (816) 329-4149.

SUPPLEMENTARY INFORMATION:

Comments Invited

How do I comment on this proposed AD? We invite you to submit any written relevant data, views, or arguments regarding this proposal. Send your comments to an address listed under ADDRESSES. Include the docket number, “FAA-2004-19897; Directorate Identifier 2004-CE-45-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2004-19897. You may review the DOT's complete Privacy Act Statement in the Federal Register published on April 11, 2000 (65 FR 19477-78), or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

What events have caused this proposed AD? The Department of Civil Aviation, Malaysia (DCA), which is the airworthiness authority for Malaysia, recently notified FAA that an unsafe condition may exist on certain Eagle Aircraft Sdn. Bhd. Model Eagle 150B airplanes. The DCA reports two incidents of the co-pilot rudder pedal assembly, part number (P/N) 2720D07-02, binding and becoming inoperable during flight.

Investigation revealed that the two incidents resulted from premature wear of the bushing, P/N 2720D08-39, in the co-pilot rudder pedal assembly. Premature wear of the bushing allowed it to slide out of the housing resulting in excessive play between the co-pilot rudder pedal assembly and the shaft. That condition caused the co-pilot rudder control pushrod pivot, P/N 2720D08-31/04, to bind with the co-pilot pivot arms, P/N 2720D08-42.

Stronger material is now used to manufacture the bushing and it has also been improved by including side stoppers.

What is the potential impact if FAA took no action? If not corrected, binding of the co-pilot rudder pedal assembly could result in loss of co-pilot rudder and brake control. This failure could result in loss of control of the airplane.

Is there service information that applies to this subject? Eagle Aircraft Sdn. Bhd. has issued Mandatory Service Bulletin SB 1095, dated September 9, 2003; Optional Service Bulletin SB 1096, dated September 9, 2003; and Optional Service Bulletin SB 1097, dated September 9, 2003.

What are the provisions of this service information? Eagle Aircraft Mandatory Service Bulletin SB 1095, dated September 9, 2003, includes procedures for disengaging and removing the co-pilot rudder pedal assembly, part number (P/N) 2720D07-02.

Eagle Aircraft Optional Service Bulletin SB 1096, dated September 9, 2003, includes procedures for modifying the existing co-pilot rudder pedal assembly, P/N 2720D07-02, from a welded to a bolted design to allow individual parts replacement within the assembly and includes instructions for incorporating rudder control stoppers.

Eagle Aircraft Optional Service Bulletin SB 1097, dated September 9, 2003, includes procedures for replacing the existing co-pilot rudder pedal assembly, P/N 2720D07-02, with a new bolted design co-pilot rudder pedal assembly, P/N 2720D07-10.

What action did the DCA take? The DCA classified these service bulletins as mandatory and issued Malaysian CAM AD 002-10-2004, Issue date: October 30, 2004, to ensure the continued airworthiness of these airplanes in Malaysia.

Did the DCA inform the United States under the bilateral airworthiness agreement? These Eagle 150B airplanes are manufactured in Malaysia and are type-certificated for operation in the United States under the provisions of section 21.29 of the Federal Aviation Regulations (14 CFR 21.29) and the applicable bilateral airworthiness agreement.

Under this bilateral airworthiness agreement, the DCA has kept us informed of the situation described above.

FAA's Determination and Requirements of This Proposed AD

What has FAA decided? We have examined the DCA's findings, reviewed all available information, and determined that AD action is necessary for products of this type design that are certificated for operation in the United States.

Since the unsafe condition described previously is likely to exist or develop on other Eagle 150B airplanes of the same type design that are registered in the United States, we are proposing AD action to prevent binding of the co-pilot rudder pedal assembly due to premature wear of the bushing, which could result in loss of co-pilot rudder and brake control. This failure could result in loss of control of the airplane.

What would this proposed AD require? This proposed AD would require you to modify or replace the co-pilot rudder pedal assembly.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 13 airplanes in the U.S. registry.

What would be the cost impact of this proposed AD on owners/operators of the affected airplanes? We estimate the following costs to accomplish this proposed modification:

Labor hours | Parts cost | Total cost per airplane
4 work hours × $65 per hour = $260. Eagle Aircraft has agreed to reimburse for the cost of labor | Eagle Aircraft has agreed to provide the parts without cost | Not applicable.

We estimate the following costs to accomplish the proposed replacements:

Labor cost | Parts cost | Total cost per airplane
3 work hours × $65 per hour = $195 | $1,440 | $1,635

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket FAA-2004-19897; Directorate Identifier 2004-CE-45-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Eagle Aircraft (Malaysia) SdN. BhD.: Docket No. FAA-2004-19897; Directorate Identifier 2004-CE-45-AD

When Is the Last Date I Can Submit Comments on This Proposed AD?

(a) We must receive comments on this proposed airworthiness directive (AD) by February 11, 2005.

What Other ADs Are Affected by This Action?

(b) None.

What Airplanes Are Affected by This AD?

(c) This AD affects Model Eagle 150B airplanes, manufacturer serial numbers (MSN) 016 through 042, that are:

(1) Equipped with a co-pilot rudder pedal assembly welded design, part number (P/N) 2720D07-02; and

(2) Certificated in any category.

What Is the Unsafe Condition Presented in This AD?

(d) This AD results from mandatory continuing airworthiness information (MCAI) issued by the airworthiness authority for Malaysia. We are issuing this AD to prevent binding of the co-pilot rudder pedal assembly due to premature wear of the bushing, which could result in loss of co-pilot rudder and brake control. This failure could result in loss of control of the airplane.

What Must I Do To Address This Problem?

(e) To address this problem, you must do the following, unless already done:

Actions | Compliance | Procedures
(1) Inspect the co-pilot rudder pedal assembly welded design, part number (P/N) 2720D07-02, for cracks (i) If cracks are found, replace the assembly with a new bolted design co-pilot rudder pedal assembly, P/N 2720D07-10. (ii) If no cracks are found, either: (A) Modify P/N 2720D07-02 by replacing the rudder control bushing with a new P/N 2720D08-39 and installing a rudder control stopper, P/N 2720D08-44; or (B) Replace P/N 2720D07-02 with a new bolted design co-pilot rudder pedal assembly, P/N 2720D07-10. | Inspect within 30 days after the effective date of this AD. If cracks are found during the inspection, before further flight replace the rudder pedal assembly. If no cracks are found during the inspection, before further flight, modify or replace the rudder pedal assembly | To inspect and modify the rudder pedal assembly, follow Eagle Aircraft Optional Service Bulletin SB 1096, dated September 16, 2003. To replace the rudder pedal assembly, follow Eagle Aircraft Optional Service Bulletin SB 1097, dated September 16, 2003.
(2) Do not install a co-pilot rudder pedal assembly, P/N 2720D07-02, unless it has been inspected and modified as required in paragraphs (e)(1) and (e)(1)(ii)(A) of this AD | As of the effective date of this AD | Not applicable.

May I Request an Alternative Method of Compliance?

(f) You may request a different method of compliance or a different compliance time for this AD by following the procedures in 14 CFR 39.19. Unless FAA authorizes otherwise, send your request to your principal inspector. The principal inspector may add comments and will send your request to the Manager, Standards Office, Small Airplane Directorate, FAA. For information on any already approved alternative methods of compliance, contact Karl Schletzbaum, Aerospace Engineer, Small Airplane Directorate, ACE-112, 901 Locust, Rm 301, Kansas City, Missouri, 64106; telephone: (816) 329-4146; facsimile: (816) 329-4149.

What if I Need To Fly the Airplane To Another Location to Comply With This AD?

(g) The FAA can issue a special flight permit under sections 21.197 and 21.199 of the Federal Aviation Regulations (14 CFR 21.197 and 21.199) to operate your airplane to a location where you can accomplish the requirements of this AD provided that the following is adhered to:

(1) Remove the co-pilot rudder pedal assembly, P/N 2720D07-02, from installation following Eagle Aircraft Mandatory Service Bulletin SB 1095, dated September 16, 2003; and

(2) Install a temporary placard in a visible place on the instrument panel that has the following wording:

“WARNING: CO-PILOT RUDDER PEDAL IS NON-FUNCTIONAL.”

Is There Other Information That Relates to This Subject?

(h) Malaysia CAM AD 002-10-2004, Issue date: October 30, 2004, also addresses the subject of this AD.

May I Get Copies of the Documents Referenced in This AD?

(i) To get copies of the documents referenced in this AD, contact Eagle Aircraft, P.O. Box 1028, Pejabat Pos Besar, Melaka, Malaysia, 75150; telephone: 011 (606) 317-4105; facsimile: 011 (606) 317-7213. To view the AD docket, go to the Docket Management Facility; U.S. Department of Transportation, 400 Seventh Street, SW., Nassif Building, Room PL-401, Washington, DC, or on the Internet at http://dms.dot.gov. This is docket number FAA-2004-19897.

Issued in Kansas City, Missouri, on January 5, 2005.
William J. Timberlake,
Acting Manager, Small Airplane Directorate, Aircraft Certification Service.

[FR Doc. 05-606 Filed 1-11-05; 8:45 am]

BILLING CODE 4910-13-P